DEPARTMENT OF AGRICULTURE

Office of Partnerships and Public Engagement

[FOA No.: OPPE-016]

Catalog of Federal Domestic Assistance (CFDA) No.: 10.443—Outreach and Assistance for Socially Disadvantaged Farmers and Ranchers and Veteran Farmers and Ranchers

Correction

In notice document 2021-15702 beginning on page 39990 in the issue of Monday, July 26, 2021, make the following correction:

On page 39990, in the third column, under FOR FURTHER INFORMATION CONTACT:, in the tenth line “Email: 501Grants@usda.gov” should read “Email: 2501Grants@usda.gov”.

[FR Doc. C1-2021-15702 Filed 7-29-21; 8:45 am]

BILLING CODE 0099-10-D